DEPARTMENT OF ENERGY

Federal Energy Regulatory Commission

Combined Notice of Filings #1

Take notice that the Commission received the following electric rate filings:

Docket Numbers: ER19-1980-001.

Applicants: Southwest Power Pool, Inc.

Description: Tariff Amendment: 3555SO Haystack Wind Project GIA-Amended Filing/Deficiency to be effective 5/10/2019.

Filed Date: 8/21/19.

Accession Number: 20190821-5061.

Comments Due: 5 p.m. ET 9/11/19.

Docket Numbers: ER19-2399-000.

Applicants: Caden Energix Hickory LLC.

Description: Supplement to July 15, 2019 Caden Energix Hickory LLC tariff filing.

Filed Date: 8/21/19.

Accession Number: 20190821-5092.

Comments Due: 5 p.m. ET 9/11/19.

Docket Numbers: ER19-2640-000.

Applicants: Southwest Power Pool, Inc.

Description: § 205(d) Rate Filing: 1910R15 Southwestern Public Service Company NITSA NOA Notice of Cancellation to be effective 6/1/2019.

Filed Date: 8/20/19.

Accession Number: 20190820-5172.

Comments Due: 5 p.m. ET 9/10/19.

Docket Numbers: ER19-2652-000.

Applicants: Avista Corporation.

Description: § 205(d) Rate Filing: Avista Corp Rate Schedule T1158 Northern Grid Funding Agreement to be effective 10/31/2019.

Filed Date: 8/20/19.

Accession Number: 20190820-5153.

Comments Due: 5 p.m. ET 9/10/19.

Docket Numbers: ER19-2653-000.

Applicants: MATL LLP.

Description: § 205(d) Rate Filing: NorthernGrid Funding Agreement Concurrence to be effective 10/31/2019.

Filed Date: 8/20/19.

Accession Number: 20190820-5156.

Comments Due: 5 p.m. ET 9/10/19.

Docket Numbers: ER19-2654-000.

Applicants: Puget Sound Energy, Inc.

Description: § 205(d) Rate Filing: Certificate of Concurrence to NorthernGrid Funding Agreement to be effective 10/31/2019.

Filed Date: 8/20/19.

Accession Number: 20190820-5163.

Comments Due: 5 p.m. ET 9/10/19.

Docket Numbers: ER19-2655-000.

Applicants: Portland General Electric Company.

Description: § 205(d) Rate Filing: NorthernGrid Funding Agreement Concurrence to be effective 10/31/2019.

Filed Date: 8/20/19.

Accession Number: 20190820-5167.

Comments Due: 5 p.m. ET 9/10/19.

Docket Numbers: ER19-2656-000.

Applicants: Florida Power & Light Company.

Description: § 205(d) Rate Filing: FPL Ministerial Revisions to Original Service Agreement No. 293 to be effective 8/21/2019.

Filed Date: 8/20/19.

Accession Number: 20190820-5170.

Comments Due: 5 p.m. ET 9/10/19.

Docket Numbers: ER19-2657-000.

Applicants: Puget Sound Energy, Inc.

Description: § 205(d) Rate Filing: Equilon 449 Filing to be effective 5/1/2019.

Filed Date: 8/20/19.

Accession Number: 20190820-5171.

Comments Due: 5 p.m. ET 9/10/19.

Docket Numbers: ER19-2658-000.

Applicants: Idaho Power Company.

Description: Initial rate filing: RS 167—NorthernGrid Funding Agreement—2020-2021 to be effective 10/31/2019.

Filed Date: 8/21/19.

Accession Number: 20190821-5000.

Comments Due: 5 p.m. ET 9/11/19.

Docket Numbers: ER19-2659-000.

Applicants: Entergy Mississippi, LLC.

Description: § 205(d) Rate Filing: EML-GWG LBA Agreement to be effective 8/21/2019.

Filed Date: 8/20/19.

Accession Number: 20190820-5173.

Comments Due: 5 p.m. ET 9/10/19.

Docket Numbers: ER19-2660-000.

Applicants: Midcontinent Independent System Operator, Inc.

Description: § 205(d) Rate Filing: 2019-08-21_Termination of SA 3280 DEI-Roaming Bison Renewables E&P (J754) to be effective 8/22/2019.

Filed Date: 8/21/19.

Accession Number: 20190821-5007.

Comments Due: 5 p.m. ET 9/11/19.

Docket Numbers: ER19-2661-000.

Applicants: Dynegy Midwest Generation, LLC.

Description: § 205(d) Rate Filing: Rate Schedule 2019 to be effective 11/1/2019.

Filed Date: 8/21/19.

Accession Number: 20190821-5020.

Comments Due: 5 p.m. ET 9/11/19.

Docket Numbers: ER19-2662-000.

Applicants: Illinois Power Generating Company.

Description: § 205(d) Rate Filing: Rate Schedule 2019 to be effective 11/1/2019.

Filed Date: 8/21/19.

Accession Number: 20190821-5021.

Comments Due: 5 p.m. ET 9/11/19.

Docket Numbers: ER19-2663-000.

Applicants: Illinois Power Resources Generating, LLC.

Description: § 205(d) Rate Filing: Rate Schedule 2019 to be effective 11/1/2019.

Filed Date: 8/21/19.

Accession Number: 20190821-5022.

Comments Due: 5 p.m. ET 9/11/19.

Docket Numbers: ER19-2664-000.

Applicants: Tampa Electric Company.

Description: § 205(d) Rate Filing: TEC OATT Revisions-Dissolution of FRCC as a NERC Regional Entity to be effective 9/1/2019.

Filed Date: 8/21/19.

Accession Number: 20190821-5053.

Comments Due: 5 p.m. ET 9/11/19.

Docket Numbers: ER19-2665-000.

Applicants: New York Independent System Operator, Inc., Niagara Mohawk Power Corporation.

Description: § 205(d) Rate Filing: LGIA (SA 2473) among NYISO, National Grid and Ball Hill Wind Energy to be effective 7/31/2019.

Filed Date: 8/21/19.

Accession Number: 20190821-5056.

Comments Due: 5 p.m. ET 9/11/19.

Docket Numbers: ER19-2666-000.

Applicants: Midcontinent Independent System Operator, Inc., ALLETE, Inc.

Description: § 205(d) Rate Filing: 2019-08-21_SA 3343 Allete-NPUC Maintenance Agrmt to be effective 8/22/2019.

Filed Date: 8/21/19.

Accession Number: 20190821-5062.

Comments Due: 5 p.m. ET 9/11/19.

Docket Numbers: ER19-2667-000.

Applicants: Atlantic Power Energy Services (US) LLC.

Description: Tariff Cancellation: Market-Based Rates Tariff cancellation to be effective 8/22/2019.

Filed Date: 8/21/19.

Accession Number: 20190821-5087.

Comments Due: 5 p.m. ET 9/11/19.

Docket Numbers: ER19-2668-000.

Applicants: APDC, Inc.

Description: Tariff Cancellation: Market-Based Rates Tariff Cancellation to be effective 8/22/2019.

Filed Date: 8/21/19.

Accession Number: 20190821-5088.

Comments Due: 5 p.m. ET 9/11/19.

Docket Numbers: ER19-2669-000.

Applicants: Southwest Power Pool, Inc.

Description: § 205(d) Rate Filing: Revisions Regarding Financial Security for System Upgrades to be effective 10/20/2019.

Filed Date: 8/21/19.

Accession Number: 20190821-5094.

Comments Due: 5 p.m. ET 9/11/19.

Docket Numbers: ER19-2670-000.

Applicants: SR Meridian III, LLC.

Description: Baseline eTariff Filing: MBR Application to be effective 10/21/2019.

Filed Date: 8/21/19.

Accession Number: 20190821-5101.

Comments Due: 5 p.m. ET 9/11/19.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 21, 2019.
Nathaniel J. Davis, Sr.,
Deputy Secretary.

[FR Doc. 2019-18472 Filed 8-27-19; 8:45 am]

BILLING CODE 6717-01-P